DEPARTMENT OF DEFENSE

Office of the Secretary

[Docket ID DoD-2020-OS-0054]

Submission for OMB Review; Comment Request

AGENCY: Office of the Chief Information Officer, Department of Defense (DoD).

ACTION: 30-Day information collection notice.

SUMMARY: The Department of Defense has submitted to OMB for clearance the following proposal for collection of information under the provisions of the Paperwork Reduction Act.

DATES: Consideration will be given to all comments received by September 28, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: Defense Industrial Base (DIB) Cybersecurity (CS) Program Point of Contact Information; OMB Control Number 0704-0490.

Type of Request: Revision.

Number of Respondents: 7,590.

Responses per Respondent: 1.

Annual Responses: 7,590.

Average Burden per Response: 20 minutes.

Annual Burden Hours: 2,530.

Needs and Uses: DoD's Defense Industrial Base (DIB) Cybersecurity (CS) Program enhances and supports DIB CS participants' capabilities to safeguard DoD information that resides on, or transits, DIB unclassified information systems. The operational implementation of this Program requires DoD to collect, share, and manage point of contact (POC) information for Program administration and management purposes. The Government will collect typical business POC information from all DIB CS participants to facilitate communication and share cyber threat information. To implement and execute this Program within their companies, DIB CS participants provide POC information to DoD during the application process to join the Program. This information includes the names, company names and mailing address, work divisions/groups, work email addresses, and work telephone numbers of company-identified POCs. DIB CS Program POCs include the Chief Executive Officer (CEO), Chief Information Officer (CIO), Chief Information Security Officer (CISO), General Counsel, Corporate or Facility Security Officer, and the Chief Privacy Officer, or their equivalents, as well as those administrative, policy, technical staff, and personnel designated to interact with the Government in executing the DIB CS Program (e.g., typically 3-10 company designated POCs). After joining the Program, DIB CS participants provide updated POC information to DoD when personnel changes occur.

Affected Public: Individuals and Households, Private Sector and Small Businesses.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: August 19, 2020.
Aaron T. Siegel,
Alternate OSD Federal Register Liaison Officer, Department of Defense.

[FR Doc. 2020-18869 Filed 8-26-20; 8:45 am]

BILLING CODE 5001-06-P